DEPARTMENT OF THE INTERIOR

Bureau of Indian Affairs

Confederated Tribes of the Coos, Lower Umpqua and Siuslaw Indians Liquor Control Code

AGENCY: Bureau of Indian Affairs, Interior.

ACTION: Notice.

SUMMARY: This notice publishes the Confederated Tribes of the Coos, Lower Umpqua and Siuslaw Indians Liquor Control Code. The Code regulates the sale, possession and use of alcoholic liquor on the Confederated Tribes of the Coos, Lower Umpqua and Siuslaw Indians (Tribes') Reservation and other lands subject to tribal jurisdiction, in conformity with the laws of the State of Oregon, where applicable and necessary. Although the Code was adopted on December 9, 2001, it does not become effective until published in the Federal Register because the failure to comply with the Code may result in criminal charges.

EFFECTIVE DATE: This Code is effective March 13, 2003.

FOR FURTHER INFORMATION CONTACT: Duane Bird Bear, Office of Tribal Services, Branch of Tribal Relations, 1951 Constitution Avenue, NW., MS-320-SIB, Washington, DC 20240-0001; Telephone (202) 513-7641.

SUPPLEMENTARY INFORMATION: Under the Act of August 15, 1953, Public Law 83-277, 67 Stat. 586, 18 U.S.C. 1161, as interpreted by the Supreme Court in Rice v. Rehner, 463 U.S. 713 (1983), the Secretary of the Interior shall certify and publish in the Federal Register notice of the adopted liquor ordinances for the purpose of regulating liquor transactions in Indian Country. The Confederated Tribes of the Coos, Lower Umpqua and Siuslaw Indians Liquor Code, Resolution No. 01-091, was duly adopted by the Confederated Tribes of the Coos, Lower Umpqua and Siuslaw Indians Tribal Council on December 9, 2001. The Tribes wish to establish uniform policies to assure a high-quality workforce, ensure the protection of employee rights and set forth the expectations of all employees and managers in conducting employee relations matters.

This notice is published in accordance with the authority delegated by the Secretary of the Interior to the Assistant Secretary—Indian Affairs by 209 Department Manual 8.1.

I certify that by Resolution No. 01-091, the Confederated Tribes of the Coos, Lower Umpqua and Siuslaw Indians Liquor Control Code was duly adopted by the Confederated Tribes of the Coos, Lower Umpqua and Siuslaw Indians Tribal Council on December 9, 2001.

Dated: February 26, 2003.
Aurene M. Martin,
Acting Assistant Secretary—Indian Affairs.

The Confederated Tribes of the Coos, Lower Umpqua and Siuslaw Indians Liquor Control Code, Resolution No. 01-091, reads as follows:

Confederated Tribes of Coos, Lower Umpqua and Siuslaw Indians Liquor Control Code Title 5—Regulatory Provisions Chapter 5-1 Liquor Control

5-1-1 Authority and Purpose

(a) The authority for this Code and its adoption by Tribal Council is found in the Confederated Tribes of Coos, Lower Umpqua and Siuslaw Indians Tribal Constitution under Article I—section 1, Article VI—section 2 and the Act of October 17, 1984, Public Law 98-481, 98 Stat. 2250.

(b) This Code is for the purpose of regulating the sale, possession and use of alcoholic liquor on the Confederated Tribes of Coos, Lower Umpqua and Siuslaw Indians (Tribes') Reservation and other lands subject to tribal jurisdiction.

5-1-2 Definitions

To the extent that definitions are consistent with tribal or federal law, terms used herein shall have the same meaning as defined in Oregon Revised Statutes Chapter 471 and in Oregon Administrative Rules Chapter 845.

(a) Alcoholic Liquor shall mean any alcoholic beverage containing more than one-half of 1 percent alcohol by volume, and every liquid or solid, patented or not, containing alcohol and capable of being consumed by a human being.

(b) Tribes' Reservation shall mean all lands held in trust by the United States for the Tribes or their members and all lands owned by the Tribes, wherever located.

(c) Sell or To Sell refer to anything forbidden by this Chapter and related to alcoholic liquor, they include:

(1) To solicit or receive an order.

(2) To keep or expose for sale.

(3) To deliver for value or in any way other than purely gratuitously.

(4) To peddle.

(5) To keep with intent to sell.

(6) To traffic in.

(7) For any consideration, promise or obtained directly or indirectly under any pretext or by any means or procure or allow to be procured for any other person.

(d) Sale includes every act of selling as defined in paragraph (c) of this section.

5-1-3 Prohibited Activity

(a) It shall be unlawful for any person to sell, trade or manufacture any alcoholic liquor on the Tribes' Reservation except as provided in this Code.

(b) It shall be unlawful for any business establishment or person on the Tribes' Reservation to possess, transport or keep with intent to sell, barter or trade to another any liquor, except for those commercial liquor establishments on the Tribes' Reservation licensed by the Tribes, provided, however, that a person may transport liquor from a licensed establishment consistent with the terms of the license.

(c) It shall be unlawful for any person to consume alcoholic liquor on a public highway.

(d) It shall be unlawful for any person to publicly consume any alcoholic liquor at any community function, or at or near any place of business, Indian celebration grounds, recreational areas, including ballparks and public camping areas, the Tribal Headquarters area and any other area where minors gather for meetings or recreation, except within a tribally licensed establishment where alcohol is sold.

(e) It shall be unlawful for any person under the age of 21 years to buy, attempt to buy or to misrepresent their age in attempting to buy, alcoholic liquor. It shall be unlawful for any person under the age of 21 years to transport, possess or consume any alcoholic liquor on the Tribes' Reservation, or to be under the influence of alcohol or to be at an established commercial liquor establishment, except as authorized under section 5-1-5 of this Code. No person shall sell or furnish alcoholic liquor to any minor.

(f) Alcoholic liquor may not be given as a prize, premium or consideration for a lottery, contest, game of chance or skill, or competition of any kind.

5-1-4 Procedure for License

(a) Any request for a license under this Code must be presented to the Tribal Council at least 30 days prior to the requested effective date. The Tribal Council shall set license conditions at least as strictly as those required by federal law, including at a minimum:

(1) Liquor may only be served and handled in a manner no less strict than allowed under Oregon Revised Statutes chapter 471.

(2) Liquor may only be served by staff of the licensee; and

(3) Liquor may only be served in rooms where gambling is not taking place.

(b) Council action on a license request must be taken at a regular or special meeting. Unless the request is for a special event license, the Council shall give at least 14 days' notice of the meeting at which the request will be considered. Notice shall be posted at the Tribal Council offices and at the establishment requesting the license, and will be sent by Certified Mail to the Oregon Liquor Control Commission.

5-1-5 Sale or Service of Liquor by Licensee's Minor Employees

(a) The holder of a license issued under this Code or Oregon Revised Statutes chapter 472 may employ persons 18, 19 and 20 years of age who may take orders for, serve and sell alcoholic liquor in any part of the licensed premises when that activity is incidental to the serving of food except in those areas classified by the Oregon Liquor Control Commission as being prohibited to the use of minors. However, no person who is 18, 19 or 20 years of age shall be permitted to mix, pour or draw alcoholic liquor except when pouring is done as a service to the patron at the patron's table or drawing is done in a portion of the premises not prohibited to minors.

(b) Except as stated in this section, it shall be unlawful to hire any person to work in connection with the sale and service of alcoholic beverages in a tribally licensed liquor establishment if such person is under the age of 21 years.

5-1-6 Warning Signs Required

(a) Any person in possession of a valid retail liquor license, who sells liquor by the drink for consumption on the premises or sells for consumption off the premises, shall post a sign informing the public of the effects and risks of alcohol consumption during pregnancy.

(b) The sign shall:

(1) Contain the message: “Pregnancy and alcohol do not mix. Drinking alcoholic beverages, including wine, coolers and beer, during pregnancy can cause birth defects.”

(2) Be either:

(A) A large sign, no smaller than 8½ by 11 inches in size with lettering no smaller than five-eighth of an inch in height; or

(B) A reduced sign, 5 by 7 inches in size with lettering of the same proportion as the large sign described in paragraph (A) of this subsection.

(3) Contain a graphic depiction of the message to assist nonreaders in understanding the message. The depiction of a pregnant female shall be universal and shall not reflect a specific race or culture.

(4) Be in English unless a significant number of the patrons of the retail premises use a language other than English as a primary language. In such cases, the sign shall be worded both in English and the primary language or languages of the patrons.

(5) Be displayed on the premises of all licensed retail liquor premises as either a large sign at the point of entry, or a reduced sized sign at points of sale.

(c) The person described in paragraph (a) of this section shall also post signs of any size at places where alcoholic beverages are displayed.

5-1-7 Civil Penalty

(a) Any person who violates the provisions of this Code is deemed to have consented to the jurisdiction of the Tribal Court and may be subject to a civil penalty in Tribal Court for a civil infraction. Such civil penalty shall not exceed the sum of one thousand dollars ($1,000) for each such infraction, provided, however, that the penalty shall not exceed five thousand dollars ($5,000) if it involves minors.

(b) The procedures governing the adjudication in Tribal Court of such civil infractions shall be those set out in the Trial Court rules.

(c) The Tribal Council hereby specifically finds that such civil penalties are reasonably necessary and are related to the expense of governmental administration necessary in maintaining law and order and public safety on the Reservation and in managing, protecting and developing the natural resources on the Reservation. It is the legislative intent of the Tribal Council that all violations of this Chapter, whether committed by tribal members, non-member Indians or non-Indians, be considered civil in nature rather than criminal.

5-1-8 Severability

If a court of competent jurisdiction finds any provision of this Code to be invalid or illegal under applicable Federal or Tribal law, such provision shall be severed from this Code and the remainder of this Code shall remain in full force and effect.

5-1-9 Consistency With State Law

The Tribes agree to perform in the same manner as any other Oregon business entity for the purpose of liquor licensing and regulations, including but not limited to licensing, compliance with the regulations of the Oregon Liquor Control Commission, maintenance of liquor liability insurance, which is incorporated as it is specifically set forth herein, as it may be amended from time to time.

5-1-10 Effective Date

This Code shall be effective upon publication in the Federal Register after approval by the Secretary of the Interior or his designee.

[FR Doc. 03-6114 Filed 3-12-03; 8:45 am]

BILLING CODE 4310-4J-P